DEPARTMENT OF THE TREASURY

Submission for OMB Review; Comment Request

December 24, 2009.

The Department of the Treasury will submit the following public information collection requirement(s) to OMB for review and clearance under the Paperwork Reduction Act of 1995, Public Law 104-13 on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before February 1, 2010 to be assured of consideration.

Community Development Financial Institutions Fund

OMB Number: 1559-0021.

Type of Review: Revision.

Title: Financial Assistance (FA) and Technical Assistance Component Application—CDFI Program.

Form: CDFI-0001.

Description: The CDFI Fund provides financial assistance in the form of grants, loans, equity investments and deposits to community development financial institutions providing capital and financial services to underserved markets.

Respondents: Not-for-profit institutions.

Estimated Total Burden Hours: 20,000 hours.

Clearance Officer: Ashanti McCallum, (202) 622-9018, Community Development Financial Institutions Fund, Department of the Treasury, 601 13th Street, NW., Suite 200 South, Washington, DC 20005.

OMB Reviewer: Shagufta Ahmed, (202) 395-7873, Office of Management and Budget, Room 10235, New Executive Office Building, Washington, DC 20503.

Celina Elphage,
Treasury PRA Clearance Officer.

[FR Doc. E9-31061 Filed 12-30-09; 8:45 am]

BILLING CODE 4810-70-P